COMMODITY FUTURES TRADING COMMISSION

Meetings; Sunshine Act

Agency Holding the Meeting: Commodity Futures Trading Commission.

Sunshine Act Meetings

Time and Date: 11 a.m., Friday, March 17, 2006.

Place: 1155 21st St., NW., Washington, DC, 9th Floor Commission Conference Room.

Status: Closed.

Matters to Be Considered: Surveillance Matters.

FOR FURTHER INFORMATION CONTACT: Jean A. Webb, 202-418-5100.

Jean A. Webb,
Secretary of the Commission.

[FR Doc. 06-1662 Filed 2-17-06; 11:09 am]

BILLING CODE 6351-01-M